DEPARTMENT OF COMMERCE

National Oceanic and Atmospheric Administration

RIN 0648-XA518

Endangered Species; File No. 16253

AGENCY: National Marine Fisheries Service (NMFS), National Oceanic and Atmospheric Administration (NOAA), Commerce.

ACTION: Notice; receipt of application.

SUMMARY: Notice is hereby given that NMFS Southeast Fisheries Science Center (SEFSC; Responsible Party: Bonnie Ponwith), has applied in due form for a permit to take green (Chelonia mydas), Kemp's ridley (Lepidochelys kempii), hawksbill (Eretmochelys imbricata), leatherback (Dermochelys coriacea), olive ridley (Lepidochelys olivacea), and loggerhead (Caretta caretta) sea turtles for scientific research.

DATES: Written, telefaxed, or e-mail comments must be received on or before July 27, 2011.

ADDRESSES: The application and related documents are available for review by selecting “Records Open for Public Comment” from the Features box on the Applications and Permits for Protected Species (APPS) home page, https://apps.nmfs.noaa.gov, and then selecting File No. 16253 from the list of available applications.

These documents are also available upon written request or by appointment in the following offices:

Permits, Conservation and Education Division, Office of Protected Resources, NMFS, 1315 East-West Highway, Room 13705, Silver Spring, MD 20910; phone (301)427-8401; fax (301)713-0376;

Northeast Region, NMFS, 55 Great Republic Drive, Gloucester, MA 01930; phone (978)281-9328; fax (978)281-9394; and

Southeast Region, NMFS, 263 13th Avenue South, Saint Petersburg, Florida 33701; phone (727)824-5312; fax (727)824-5309.

Written comments on this application should be submitted to the Chief, Permits, Conservation and Education Division

• by e-mail to NMFS.Pr1Comments@noaa.gov (include the File No. in the subject line of the e-mail),

• by facsimile to (301)713-0376, or

• at the address listed above.

Those individuals requesting a public hearing should submit a written request to the Chief, Permits, Conservation and Education Division at the address listed above. The request should set forth the specific reasons why a hearing on this application would be appropriate.

FOR FURTHER INFORMATION CONTACT: Kristy Beard or Amy Hapeman, (301)427-8401.

SUPPLEMENTARY INFORMATION: The subject permit is requested under the authority of the Endangered Species Act of 1973, as amended (ESA; 16 U.S.C. 1531 et seq.) and the regulations governing the taking, importing, and exporting of endangered and threatened species (50 CFR 222-226).

The applicant requests a five-year permit to conduct research on leatherback, loggerhead, green, hawksbill, olive ridley, and Kemp's ridley sea turtles in the Atlantic Ocean, Gulf of Mexico, Caribbean Sea and their tributaries. The purpose of the research is to evaluate modifications to commercial fishing gear to mitigate sea turtle interactions and capture under two projects, Project A (Turtle Excluder Device Evaluations in Atlantic and Gulf of Mexico Trawl Fisheries) and Project B (Modifications to Longline Fisheries Gear). These evaluations and subsequent gear modifications could help to reduce incidental turtle bycatch in the gear types studied and provide data to improve stock assessments, assess the impact of anthropogenic activities, and better manage and recover these species. Annual requested take numbers under Project A are: 225 loggerheads, 98 Kemp's ridleys, 82 leatherbacks, 47 greens, 33 hawksbills, 33 olive ridleys, and 85 unidentified/hybrid turtles. A subset of these animals would be captured during trawl research; the rest of the turtles would be captured within fisheries managed by another Federal authority. Annual requested take numbers under Project B are: 28 loggerheads, 3 Kemp's ridleys, 30 leatherbacks, 4 greens, 4 hawksbills, 3 olive ridleys, and 3 unidentified/hybrid turtles. All animals would be handled, measured, weighed, photographed, flipper tagged, passive integrated transponder tagged, skin biopsied, and released.

Dated: June 21, 2011.
P. Michael Payne,
Chief, Permits, Conservation and Education Division, Office of Protected Resources, National Marine Fisheries Service.

[FR Doc. 2011-16043 Filed 6-24-11; 8:45 am]

BILLING CODE 3510-22-P